DEPARTMENT OF VETERANS AFFAIRS

Joint Biomedical Laboratory Research and Development and Clinical Science Research and Development Services Scientific Merit Review Board; Notice of Meetings

The Department of Veterans Affairs gives notice under the Public Law 92-463 (Federal Advisory Committee Act) that the subcommittees of the Joint Biomedical Laboratory Research and Development and Clinical Science Research and Development Services Scientific Merit Review Board will meet from 8 a.m. to 5 p.m. on the dates indicated below:

Subcommittee for | Date(s) | Location
Mental Hlth & Behav Sci-B | November 10, 2009 | L'Enfant Plaza Hotel.
Cellular & Molecular Medicine | November 13, 2009 | Embassy Suites—Chevy Chase.
Nephrology | November 13, 2009 | L'Enfant Plaza Hotel.
Surgery | November 16, 2009 | *VA Central Office.
Infectious Diseases-B | November 18, 2009 | L'Enfant Plaza Hotel.
Mental Hlth & Behav Sci-A | November 19, 2009 | Embassy Suites—Chevy Chase.
Hematology | November 20, 2009 | *VA Central Office.
Respiration | November 20, 2009 | L'Enfant Plaza Hotel.
Endocrinology-A | November 23, 2009 | L'Enfant Plaza Hotel.
Neurobiology-D | November 30, 2009 | L'Enfant Plaza Hotel.
Endocrinology-B | December 1, 2009 | *VA Central Office.
Clinical Research Program | December 2, 2009 | *VA Central Office.
Oncology | December 3-4, 2009 | Embassy Suites—Chevy Chase.
Neurobiology-A | December 4, 2009 | L'Enfant Plaza Hotel.
Immunology | December 4, 2009 | L'Enfant Plaza Hotel.
Cardiovascular Studies | December 7, 2009 | L'Enfant Plaza Hotel.
Neurobiology-E | December 7, 2009 | L'Enfant Plaza Hotel.
Epidemiology | December 9, 2009 | *VA Central Office.
Gastroenterology | December 11, 2009 | L'Enfant Plaza Hotel.
Infectious Diseases-A | December 11, 2009 | *VA Central Office.
Neurobiology-C | December 17-18, 2009 | L'Enfant Plaza Hotel.
The addresses of the hotels and VA Central Office are:
Embassy Suites at the Chevy Chase Pavilion, 4300 Military Road, NW., Washington, DC.
L'Enfant Plaza Hotel, 480 L'Enfant Plaza, SW., Washington, DC.
*VA Central Office, 1722 Eye Street, NW., Washington, DC.
*Teleconference.

The purpose of the Merit Review Board is to provide advice on the scientific quality, budget, safety and mission relevance of investigator-initiated research proposals submitted for VA merit review consideration. Proposals submitted for review by the Board involve a wide range of medical specialties within the general areas of biomedical, behavioral and clinical science research.

The subcommittee meetings will be open to the public for approximately one hour at the start of each meeting to discuss the general status of the program. The remaining portion of each subcommittee meeting will be closed to the public for the review, discussion, and evaluation of initial and renewal research proposals.

The closed portion of each meeting involves discussion, examination, reference to staff and consultant critiques of research proposals. During this portion of each meeting, discussion and recommendations will deal with qualifications of personnel conducting the studies, the disclosure of which would constitute a clearly unwarranted invasion of personal privacy, as well as research information, the premature disclosure of which could significantly frustrate implementation of proposed agency action regarding such research proposals.

As provided by subsection 10(d) of Public Law 92-463, as amended, closing portions of these subcommittee meetings is in accordance with 5 U.S.C., 552b(c) (6) and (9)(B). Those who plan to attend or would like to obtain a copy of minutes of the subcommittee meetings and rosters of the members of the subcommittees should contact LeRoy G. Frey, Ph.D., Chief, Program Review (121F), Department of Veterans Affairs, 810 Vermont Avenue, NW., Washington, DC, 20420 at (202) 461-1664.

Dated: September 25, 2009.
By Direction of the Secretary.
Vivian Drake,
Acting Committee Management Officer.

[FR Doc. E9-24315 Filed 10-7-09; 8:45 am]

BILLING CODE P